DEPARTMENT OF COMMERCE

International Trade Administration

[C-533-844]

Certain Lined Paper Products From India: Final Results of Countervailing Duty Administrative Review

AGENCY: Import Administration, International Trade Administration, Department of Commerce.

SUMMARY: On October 6, 2008, the U.S. Department of Commerce (“the Department”) published in the Federal Register its preliminary results of the administrative review of the countervailing duty (“CVD”) order on certain lined paper products (“lined paper”) from India for the period of review (“POR”) February 15, 2006, through December 31, 2006.¹ See Certain Lined Paper Products from India: Notice of Preliminary Results of Countervailing Duty Administrative Review, 73 FR 58121 (October 6, 2008) (“Preliminary Results”). We found that respondent, Navneet Publication India Limited (“Navneet”) received countervailable subsidies during the POR. We received comments on our preliminary results from petitioners ² and rebuttal comments from respondent. The final results are listed in the section “Final Results of Review” below.

DATES: Effective Date: February 10, 2009.

FOR FURTHER INFORMATION CONTACT: Jolanta Lawska at (202) 482-8362, AD/CVD Operations, Office 3, Import Administration, International Trade Administration, U.S. Department of Commerce, 14th Street and Constitution Ave., NW., Washington, DC 20230.

¹ Pursuant to 19 CFR 351.213(e)(2)(ii), because the Department received Navneet's request during the first anniversary month after publication of the order, this administrative review covers entries from February 15, 2006, the date of suspension of liquidation through December 31, 2006, the end of the most recently completed calendar year. The date of suspension of liquidation corresponds to the publication in the Federal Register of the Notice of Preliminary Affirmative Countervailing Duty Determination and Preliminary Negative Critical Circumstances Determination: Certain Lined Paper Products from India, 71 FR 7916 (February 15, 2006) (Preliminary Determination of Lined Paper Investigation). However, for purposes of this administrative review, we will analyze data corresponding to calendar year 2006 (January 1, 2006, through December 31, 2006) to determine the subsidy rate for exports of subject merchandise made during the period in which liquidation of entries was suspended.

² Petitioners are the Association of American School Paper Suppliers and its members Mead Westvaco Corporation, Top Flight Inc., and Norcom Inc.

SUPPLEMENTARY INFORMATION:

Background

On September 28, 2006, the Department published in the Federal Register the CVD order on certain lined paper products from India. See Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006). On October 6, 2008, the Department published in the Federal Register its preliminary results of the administrative review of this order for the period February 15, 2006, through December 31, 2006. See Preliminary Results, 73 FR at 58121. In accordance with 19 CFR 351.213(b), this administrative review covers Navneet, a producer and exporter of subject merchandise.

In the Preliminary Results, we invited interested parties to submit briefs or request a hearing. On November 13, 2008, we received comments from petitioners. On November 26, 2008, we received rebuttal comments from respondent. No party requested a hearing.

Scope of Order

The scope of this order includes certain lined paper products, typically school supplies,³ composed of or including paper that incorporates straight horizontal and/or vertical lines on ten or more paper sheets,⁴ including but not limited to such products as single- and multi-subject notebooks, composition books, wireless notebooks, looseleaf or glued filler paper, graph paper, and laboratory notebooks, and with the smaller dimension of the paper measuring 6 inches to 15 inches (inclusive) and the larger dimension of the paper measuring 8¾ inches to 15 inches (inclusive). Page dimensions are measured size (not advertised, stated, or “tear-out” size), and are measured as they appear in the product (i.e., stitched and folded pages in a notebook are measured by the size of the page as it appears in the notebook page, not the size of the unfolded paper). However, for measurement purposes, pages with tapered or rounded edges shall be measured at their longest and widest points. Subject lined paper products may be loose, packaged or bound using any binding method (other than case bound through the inclusion of binders board, a spine strip, and cover wrap). Subject merchandise may or may not contain any combination of a front cover, a rear cover, and/or backing of any composition, regardless of the inclusion of images or graphics on the cover, backing, or paper. Subject merchandise is within the scope of this order whether or not the lined paper and/or cover are hole punched, drilled, perforated, and/or reinforced. Subject merchandise may contain accessory or informational items including but not limited to pockets, tabs, dividers, closure devices, index cards, stencils, protractors, writing implements, reference materials such as mathematical tables, or printed items such as sticker sheets or miniature calendars, if such items are physically incorporated, included with, or attached to the product, cover and/or backing thereto.

³ For purposes of this scope definition, the actual use or labeling of these products as school supplies or non-school supplies is not a defining characteristic.

⁴ There shall be no minimum page requirement for looseleaf filler paper.

Specifically excluded from the scope of this order are:

• Unlined copy machine paper;

• Writing pads with a backing (including but not limited to products commonly known as “tablets,” “note pads,” “legal pads,” and “quadrille pads”), provided that they do not have a front cover (whether permanent or removable). This exclusion does not apply to such writing pads if they consist of hole-punched or drilled filler paper;

• Three-ring or multiple-ring binders, or notebook organizers incorporating such a ring binder provided that they do not include subject paper;

• Index cards;

• Printed books and other books that are case bound through the inclusion of binders board, spine strip, and cover wrap;

• Newspapers;

• Pictures and photographs;

• Desk and wall calendars and organizers (including but not limited to such products generally known as “office planners,” “time books,” and “appointment books”);

• Telephone logs;

• Address books;

• Columnar pads & tablets, with or without covers, primarily suited for the recording of written numerical business data;

• Lined business or office forms, including but not limited to: preprinted business forms, lined invoice pads and paper, mailing and address labels, manifests, and shipping log books;

• Lined continuous computer paper;

• Boxed or packaged writing stationery (including but not limited to products commonly known as “fine business paper,” “parchment paper,” and “letterhead”), whether or not containing a lined header or decorative lines;

• Stenographic pads (“steno pads”), Gregg ruled,⁵ measuring 6 inches by 9 inches;

⁵ “Gregg ruling” consists of a single- or double-margin vertical ruling line down the center of the page. For a six-inch by nine-inch stenographic pad, the ruling would be located approximately three inches from the left of the book.

Also excluded from the scope of this order are the following trademarked products:

• Fly™ lined paper products: A notebook, notebook organizer, loose or glued note paper, with papers that are printed with infrared reflective inks and readable only by a Fly™ pen-top computer. The product must bear the valid trademark Fly™.⁶

⁶ Products found to be bearing an invalidly licensed or used trademark are not excluded from the scope.

• Zwipes™: A notebook or notebook organizer made with a blended polyolefin writing surface as the cover and pocket surfaces of the notebook, suitable for writing using a specially-developed permanent marker and erase system (known as a Zwipes™ pen). This system allows the marker portion to mark the writing surface with a permanent ink. The eraser portion of the marker dispenses a solvent capable of solubilizing the permanent ink allowing the ink to be removed. The product must bear the valid trademark Zwipes™.⁷

⁷ Products found to be bearing an invalidly licensed or used trademark are not excluded from the scope.

• FiveStar® Advance™: A notebook or notebook organizer bound by a continuous spiral, or helical, wire and with plastic front and rear covers made of a blended polyolefin plastic material joined by 300 denier polyester, coated on the backside with PVC (poly vinyl chloride) coating, and extending the entire length of the spiral or helical wire. The polyolefin plastic covers are of specific thickness; front cover is 0.019 inches (within normal manufacturing tolerances) and rear cover is 0.028 inches (within normal manufacturing tolerances). Integral with the stitching that attaches the polyester spine covering, is captured both ends of a 1″ wide elastic fabric band. This band is located 2⅜″ from the top of the front plastic cover and provides pen or pencil storage. Both ends of the spiral wire are cut and then bent backwards to overlap with the previous coil but specifically outside the coil diameter but inside the polyester covering. During construction, the polyester covering is sewn to the front and rear covers face to face (outside to outside) so that when the book is closed, the stitching is concealed from the outside. Both free ends (the ends not sewn to the cover and back) are stitched with a turned edge construction. The flexible polyester material forms a covering over the spiral wire to protect it and provide a comfortable grip on the product. The product must bear the valid trademarks FiveStar® Advance™.⁸

⁸ Products found to be bearing an invalidly licensed or used trademark are not excluded from the scope.

• FiveStar Flex™: A notebook, a notebook organizer, or binder with plastic polyolefin front and rear covers joined by 300 denier polyester spine cover extending the entire length of the spine and bound by a 3-ring plastic fixture. The polyolefin plastic covers are of a specific thickness; front cover is 0.019 inches (within normal manufacturing tolerances) and rear cover is 0.028 inches (within normal manufacturing tolerances). During construction, the polyester covering is sewn to the front cover face to face (outside to outside) so that when the book is closed, the stitching is concealed from the outside. During construction, the polyester cover is sewn to the back cover with the outside of the polyester spine cover to the inside back cover. Both free ends (the ends not sewn to the cover and back) are stitched with a turned edge construction. Each ring within the fixture is comprised of a flexible strap portion that snaps into a stationary post which forms a closed binding ring. The ring fixture is riveted with six metal rivets and sewn to the back plastic cover and is specifically positioned on the outside back cover. The product must bear the valid trademark FiveStar Flex™.⁹

⁹ Products found to be bearing an invalidly licensed or used trademark are not excluded from the scope.

Merchandise subject to this order is typically imported under headings 4810.22.5044, 4811.90.9090, 4820.10.2010, 4820.10.2020, 4820.10.2050, and 4820.10.4000 of the Harmonized Tariff Schedule of the United States (HTSUS).¹⁰ The tariff classifications are provided for convenience and customs purposes; however, the written description of the scope of the order is dispositive.

¹⁰ During the investigation additional HTSUS headings were identified.

Analysis of Comments

On November 13, 2008 petitioners filed comments. On November 26, 2008, Navneet filed rebuttal comments. All issues in the petitioners' case and Navneet's rebuttal briefs are addressed in the accompanying Issues and Decision Memorandum for the Countervailing Duty Administrative Review on Certain Lined Paper Products from India (“Decision Memorandum”), which is hereby adopted by this notice. A listing of the issues that parties raised and to which we have responded is attached to this notice as Appendix I. Parties can find a complete discussion of the issues raised in this review and the corresponding recommendations in this public memorandum, which is on file in the Department's Central Record Unit (CRU), Room 1117 of the main commerce building. In addition, a complete version of the Decision Memorandum can be accessed directly on the World Wide Web at http://ia.ita.doc.gov/frn. The paper copy and the electronic version of the Decision Memorandum are identical in content.

Final Results of Review

In accordance with section 751(a)(7)(A) of the Tariff Act of 1930, as amended (The Act), and 19 CFR 351.221(b)(5), we calculated a subsidy rate for Navneet for the POR. We determine the total net countervailable subsidy rate for Navneet is 8.76 percent ad valorem for the POR.

Assessment Rates/Cash Deposits

The Department intends to issue assessment instructions to U.S. Customs and Border Protection (“CBP”) 15 days after the date of publication of these final results of review to liquidate shipments of subject merchandise by Navneet entered, or withdrawn from warehouse, for consumption on or after February 15, 2006, through December 31, 2006, at the ad valorem rate listed above. We will also instruct CBP to collect a cash deposit for Navneet of estimated countervailing duties at the rate indicated above on all shipments of the subject merchandise entered, or withdrawn from warehouse, for consumption on or after the date of publication of these final results of review.

For all non-reviewed companies, the Department has instructed CBP to assess countervailing duties at the cash deposit rates in effect at the time of entry, for entries between February 15, 2006, and December 31, 2006. The cash deposit rates for all companies not covered by this review are not changed by the results of this review.

Return or Destruction of Proprietary Information

This notice serves as a reminder to parties subject to administrative protective order (“APO”) of their responsibility concerning the disposition of proprietary information disclosed under APO in accordance with 19 CFR 351.305(a)(3). Timely written notification of return or destruction of APO materials or conversion to judicial protective order is hereby requested. Failure to comply with the regulations and the terms of an APO is a sanctionable violation.

We are issuing and publishing these results in accordance with sections 751(a)(1) and 777(i)(1) of the Act.

Dated: February 3, 2009.
Ronald K. Lorentzen,
Acting Assistant Secretary for Import Administration.

Appendix I—Issues in Decision Memorandum

I. List of Issues

1. Whether the Department Should Apply Total Adverse Facts Available to Navneet

2. In the Alternative, Whether the Department Should Apply Partial Adverse Facts Available in Calculating Navneet's Duty Entitlement Passbook Scheme (“DEPS”) Subsidy

3. Whether the Department Erred in Calculating the Benefit on the 80IB Tax Program

II. Subsidies Valuation Information

A. Benchmarks for Long Term Loans and Discount Rates

B. Allocation Period

III. Analysis of Programs

A. Programs Determined To Confer Subsidies

1. Duty Entitlement Passbook Scheme (DEPS)

2. Export Promotion Capital Goods Scheme (EPCGS)

3. The Government of India's Income Deduction Program (80IB Tax Program)

B. Programs Determined Not To Be Used

Programs Administered by the Government of India

1. Duty Replenishment Certificate Scheme

2. Advance License Program

3. Export Processing Zones and Export Oriented Units

4. Target Plus Scheme

5. Export Processing Zones

6. Income Tax Exemption Scheme (Sections 10A, 10B, and 80HHC)

7. Market Development Assistance

8. Status Certificate Program

9. Market Access Initiative

10. Loan guarantees from the GOI

11. Exemption of Export Credit from Interest Taxes

12. Pre and Post-shipment Export Financing

Programs Administered by the State Governments

1. State Government of Gujarat Provided Tax Incentives (State Government of Gujarat Program)

State Government of Maharashtra Programs:

2. Sales Tax Program from Maharashtra

3. Electricity Duty Exemptions Under the State Government of Maharashtra's (SGM) Package Scheme of Incentives of 1993 (PSI of 1993)

4. Refunds of Octroi Under the PSI of 1993, Maharashtra Industrial Policy (MIP of 2001), and Maharashtra Industrial Policy (MIP of 2006)

5. Infrastructure Subsidies to Mega Projects

6. Land for Less than Adequate Remuneration (for firms operating in areas outside the Bombay and Pune metropolitan areas)

7. Loan Guarantees Based on Octroi Refunds by the SGM

IV. Total Ad valorem Rate

V. Analysis of Comments

1. Whether the Department Should Apply Total Adverse Facts Available to Navneet

2. In the Alternative, Whether the Department Should Apply Partial Adverse Facts Available in Calculating Navneet's Duty Entitlement Passbook Scheme (“DEPS”) Subsidy

3. Whether the Department Erred in Calculating the Benefit on the 80IB Tax Program

[FR Doc. E9-2765 Filed 2-9-09; 8:45 am]

BILLING CODE 3510-DS-P